DEPARTMENT OF ENERGY

National Quantum Initiative Advisory Committee; Correction

AGENCY: Department of Energy.

ACTION: Notice of open meeting; correction.

SUMMARY: On November 25, 2022, the Department of Energy published a notice of open meeting announcing a meeting on December 16, 2022, of the National Quantum Initiative Advisory Committee. This document makes a correction to that notice.

FOR FURTHER INFORMATION CONTACT: Thomas Wong, Designated Federal Officer, NQIAC, (240) 220-4668 or email: NQIAC@quantum.gov.

SUPPLEMENTARY INFORMATION:

Corrections

In the Federal Register of November 25, 2022, in FR Doc. 2022-25721 (87 FR 72468), on pages 72468-72469, please make the following correction:

In that notice under DATES, the meeting time has been changed. The original meeting time was 2 p.m. to 4 p.m. EST. The new meeting time is 9 a.m.-11 a.m. EST.

Under the SUPPLEMENTARY INFORMATION, correct the paragraph to the following:

Purpose of the Committee: The NQIAC has been established to advise the President, the National Science and Technology Council (NSTC) Subcommittee on Quantum Information Science (SCQIS), and the NSTC Subcommittee on Economic and Security Implications of Quantum Science (ESIX) on the National Initiative Act (NQI) Program, and on trends and developments in quantum information science and technology, in accordance with the National Quantum Initiative Act (Pub. L. 115-368) and Executive Order 14073.

Signed in Washington, DC, on November 29, 2022.
LaTanya Butler,
Deputy Committee Management Officer.

[FR Doc. 2022-26326 Filed 12-2-22; 8:45 am]

BILLING CODE 6450-01-P